DEPARTMENT OF ENERGY

Federal Energy Regulatory Commission

Notice of Application for Non-Project Use of Project Lands and Waters and Soliciting Comments, Motions To Intervene, and Protests

February 27, 2007.

Take notice that the following application has been filed with the Commission and is available for public inspection:

a. Application Type: Non-Project Use of Project Lands and Waters.

b. Project No.: 349-121.

c. Date Filed: December 19, 2006, and supplemented on February 21, 2007.

d. Applicant: Alabama Power Company.

e. Name of Project: Martin Dam Hydroelectric Project.

f. Location: The project is located on Lake Martin in Elmore County, Alabama.

g. Filed Pursuant to: Federal Power Act, 16 U.S.C. § §thnsp;791(a)-825(r) and § § 799 and 801.

h. Applicant Contact: Mr. Keith E. Bryant, Senior Engineer; 600 18th Street North, Birmingham, AL 35203, (205) 257-1403.

i. FERC Contact: Any questions on this notice should be addressed to Isis Johnson at (202) 502-6346, or by e-mail: Isis.Johnson@ferc.gov.

j. Deadline for filing comments and or motions: March 27, 2007.

All documents (original and eight copies) should be filed with: Secretary, Federal Energy Regulatory Commission, 888 First Street, NE., Washington, DC 20426. Please include the project number (P-349-121) on any comments or motions filed. Comments, protests, and interventions may be filed electronically via the internet in lieu of paper. See, 18 CFR 385.2001(a)(1)(iii) and the instructions on the Commission's Web site under the “e-Filing” link. The Commission strongly encourages e-filings.

k. Description of Request: Alabama Power Company, licensee for the Martin Dam Hydroelectric Project, has requested Commission approval to permit Anchor Bay Marina, LP to redevelop the facilities at Anchor Bay Marina on Lake Martin. The proposed redevelopment would include: (1) Relocating three existing dock structures with a total of 51 slips; (2) adding dry-stack storage for 144 boats; (3) providing additional parking facilities; (4) upgrading the existing boat showroom; and (5) remodeling the existing sales office, restroom facilities, and restaurant. The dock structures would be moved across the bay to the eastern peninsula, along with their associated water, electricity and cable television lines. No new structures would be added to the lake. The proposal also includes the associated grading the east peninsula. Filter fabric and riprap would be used to stabilize the shoreline. All excess material would be transported to an inland spoil area outside the project boundary. The marina is located on the south shore of Kowaliga Bay, approximately three stream miles above Martin Dam in Elmore County, Alabama.

l. Location of the Application: This filing is available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described applications. A copy of the applications may be obtained by agencies directly from the Applicant. If an agency does not file comments within the time specified for filing comments, it will be presumed to have no comments. One copy of an agency's comments must also be sent to the Applicant's representatives.

Magalie R. Salas,
Secretary.

[FR Doc. E7-3968 Filed 3-7-07; 8:45 am]

BILLING CODE 6717-01-P